DEPARTMENT OF HEALTH AND HUMAN SERVICES

National Institutes of Health

Submission for OMB Review; Comment Request; Educational Needs Assessment of International Drug Abuse Researchers

Summary: Under the provisions of section 3507(a)(1)(D) of the Paperwork Reduction Act of 1995, the National Institute on Drug Abuse (NIDA), the National Institutes of Health (NIH) has submitted to the Office of Management and Budget (OMB) a request to review and approve the information collection listed below. This proposed information collection was previously published in the Federal Register on March 1, 2006 [Pages 10539-10540] and allowed 60-days for public comment. No public comments were received. The purpose of this notice is to allow an additional 30 days for public comment. The National Institutes of Health may not conduct or sponsor, and the respondent is not required to respond to, an information collection that has been extended, revised, or implemented on or after October 1, 1995, unless it displays a currently valid OMB control number.

Proposed Collection: Title: The NIDA International Program Research Training Modules for International Application Needs Assessment Survey. Type of Information Collection Request: NEW. Need and Use of Information Collection: This is a request for a one-time clearance to undertake an educational needs assessment survey of NIDA's collaborating international drug abuse researchers. The purpose of this survey is to more precisely define the educational needs of the international drug abuse research community before proceeding with the development of formal distance learning programs. Reviews of distance education programs in the developing world often reveal that systematically organized learning needs assessments are continually absent. (USAID 2001: The Use and Effect of Distance Education in Healthcare: What Do We Know? Operations Research Issue Paper 2). This survey will address that issue.

The survey is based on recommendations received from current international drug abuse researchers and NIDA grantees. It is designed to be brief (2 pages) and succinct, asking respondents to prioritize their educational needs. The questions have been previously tested with persons who speak English as a second language. Total time to complete the survey is less than five minutes. The survey will cover the following elements: (1) Respondent background, including availability of educational technologies, (2) Educational needs, including a ranking of 10 proposed topics in drug abuse education, and (3) Collaborative needs, including an estimate of the value of online tools for research collaboration. The survey will not collect name, address, or other identifying information. Frequency of Response: This project will be conducted once. Affected Public: International drug abuse researchers who are currently affiliated with or wish to be affiliated with the U.S. drug abuse research community. Type of Respondents/Drug Abuse Researchers: physicians, scientists, mental health workers, and scientists-in-training. The reporting burden is as follows: Estimated Total Annual Number of Respondents: 250; Estimated Number of Responses per Respondent: 1; Average Burden Hours per Response: 0.09. Estimated Total Annual Burden Hours Requested: 22.5. There are no Capital Costs to report. There are no Operating or Maintenance Costs to report. The estimated annualized burden is summarized below.

Drug abuse researcher respondents | Estimated number of respondents | Estimated number of responses per respondent | Average burden hours per response | Estimated total burden hours
Physicians | 100 | 1 | 0.09 | 9.0
PhD Scientists | 70 | 1 | 0.09 | 6.3
Mental Health/Drug | 40 | 1 | 0.09 | 3.6
Abuse Professionals | 40 | 1 | 0.09 | 3.6
Scientists-in-Training | 40 | 1 | 0.09 | 3.6
Annualized Totals | 250 | 1 | 0.09 | 22.5

Request for Comments: Written comments and/or suggestions from the public and affected agencies should address one or more of the following points: (1) Evaluate whether the proposed collection of information is necessary for the proper performance of the function of the agency, including whether the information will have practical utility; (2) Evaluate the accuracy of the agency's estimate of the burden of the proposed collection of information, including the validity of the methodology and assumptions used; (3) Enhance the quality, utility, and clarity of the information to be collected; and (4) Minimize the burden of the collection of information on those who are to respond, including the use of appropriate automated, electronic, mechanical, or other technological collection techniques or other forms of information technology.

Direct Comments to OMB: Written comments and/or suggestions regarding the item(s) contained in this notice, especially regarding the estimated public burden and associated response time, should be directed to the: Office of Management and Budget, Office of Regulatory Affairs, New Executive Office Building, Room 10235, Washington, DC 20503, Attention: Desk Officer for NIH. To request more information on the proposed project or to obtain a copy of the information collection plans, contact Dale Weiss, Project Officer, National Institute on Drug Abuse, 6001 Executive Boulevard, Room 5274, Bethesda, MD 20892, or call non-toll-free number 301-402-6683; fax 301-443-9127; or by e-mail to dweiss@nida.nih.gov.

Comments Due Date: Comments regarding this information collection are best assured of having their full effect if received within 30 days of the date of this publication.

Dated: July 14, 2006.
Laura Rosenthal,
Associate Director for Management, National Institute on Drug Abuse.

[FR Doc. E6-11612 Filed 7-20-06; 8:45 am]

BILLING CODE 4140-01-P